DEPARTMENT OF TRANSPORTATION

Federal Aviation Administration

14 CFR Part 39

[Docket No. FAA-2018-0450; Product Identifier 2018-NM-073-AD; Amendment 39-19295; AD 2018-11-07]

RIN 2120-AA64

Airworthiness Directives; Saab AB, Saab Aeronautics (Formerly Known as Saab AB, Saab Aerosystems) Airplanes

AGENCY: Federal Aviation Administration (FAA), DOT.

ACTION: Final rule; request for comments.

SUMMARY: We are adopting a new airworthiness directive (AD) for all Saab AB, Saab Aeronautics Model SAAB 2000 airplanes. This AD requires a one-time inspection of the aileron bellcrank support brackets and a thickness measurement of the affected lug attaching the support bracket; repetitive inspections of the affected aileron bellcrank support brackets; and corrective actions if necessary. This AD also provides an optional terminating action for the repetitive inspections. This AD was prompted by the identification of a manufacturing defect on certain aileron bellcrank support brackets that resulted in the material thickness of the affected lug attaching the support bracket to the rear spar of the wing to be insufficient. We are issuing this AD to address the unsafe condition on these products.

DATES: This AD becomes effective June 13, 2018.

The Director of the Federal Register approved the incorporation by reference of a certain publications listed in this AD as of June 13, 2018.

We must receive comments on this AD by July 13, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC, between 9 a.m. and 5 p.m., Monday through Friday, except Federal holidays.

For service information identified in this final rule, contact Saab AB, Saab Aeronautics, SE-581 88, Linköping, Sweden; telephone +46 13 18 5591; fax +46 13 18 4874; email saab2000.techsupport@saabgroup.com; internet http://www.saabgroup.com. You may view this referenced service information at the FAA, Transport Standards Branch, 2200 South 216th St., Des Moines, WA. For information on the availability of this material at the FAA, call 206-231-3195. It is also available on the internet at http://www.regulations.gov by searching for and locating Docket No. FAA-2018-0450.

Examining the AD Docket

You may examine the AD docket on the internet at http://www.regulations.gov by searching for and locating Docket No. FAA-2018-0450; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Shahram Daneshmandi, Aerospace Engineer, International Section, Transport Standards Branch, FAA, 2200 South 216th St., Des Moines, WA 98198; telephone and fax 206-231-3220.

SUPPLEMENTARY INFORMATION:

Discussion

The European Aviation Safety Agency (EASA), which is the Technical Agent for the Member States of the European Union, has issued EASA AD 2018-0103, dated April 30, 2018 (referred to after this as the Mandatory Continuing Airworthiness Information, or “the MCAI”), to correct an unsafe condition for all Saab AB, Saab Aeronautics Model SAAB 2000 airplanes. The MCAI states:

A manufacturing defect was identified on certain aileron bellcrank support brackets, installed on the outboard section of the left hand (LH) and right hand (RH) wing. The material thickness of the lugs attaching the support bracket to the rear spar of the wing was found to be insufficient.

This condition, if not detected and corrected, could, in case of an aileron jamming, lead to support bracket failure, possibly resulting in reduced control of the aeroplane.

To address this potential unsafe condition, SAAB issued the SB [Saab Service Bulletin 2000-27-056, dated April 18, 2018] to provide instructions for inspection and replacement of affected support brackets.

For the reason described above, this [EASA] AD requires a one-time inspection of all support brackets to determine the thickness and, depending on findings, repetitive inspections of the affected support brackets. This [EASA] AD also requires reporting the measured thickness, and replacement of all affected support brackets with serviceable support brackets, which constitutes terminating action.

You may examine the MCAI on the internet at http://www.regulations.gov by searching for and locating Docket No. FAA-2018-0450.

Related Service Information Under 1 CFR Part 51

Saab AB, Saab Aeronautics has issued Saab Service Bulletin 2000-27-056, dated April 18, 2018. The service information describes procedures for a detailed visual inspection for cracks, corrosion, and damage (including missing paint) of the affected lug and the adjacent area of the installed aileron bellcrank support brackets on the left hand and right hand wing; a thickness measurement of the affected lug attaching the support bracket to the rear spar of the wing, and replacement of aileron bellcrank support brackets. This service information is reasonably available because the interested parties have access to it through their normal course of business or by the means identified in the ADDRESSES section.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Difference Between This AD and the MCAI

The MCAI requires replacing all affected support brackets. However, the planned compliance time for the replacement would allow enough time to provide notice and opportunity for prior public comment on the merits of the replacement. Therefore, we are considering a notice of proposed rulemaking (NPRM) requiring this replacement, which would terminate the repetitive inspections required by this AD.

FAA's Determination of the Effective Date

An unsafe condition exists that requires the immediate adoption of this AD. The FAA has found that the risk to the flying public justifies waiving notice and comment prior to adoption of this rule because the material thickness of the affected lug attaching the aileron bellcrank support bracket to the rear spar of the wing have been found to be insufficient, which, in the event of an aileron jam, could lead to support bracket failure and possible reduced control of the airplane. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2018-0450; Product Identifier 2018-NM-073-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

We estimate that this AD affects 8 airplanes of U.S. registry. We estimate the following costs to comply with this AD:

Estimated Costs for Required Actions
Labor cost | Parts cost | Cost per product | Cost on U.S. operators
3 work-hours × $85 per hour = $255 | $0 | $255 | $2,040

We estimate the following costs to do any necessary on-condition actions that would be required based on the results of any required actions. We have no way of determining the number of aircraft that might need these on-condition actions:

Estimated Costs of On-Condition Actions
Labor cost | Parts cost | Cost per product
Up to 16 work-hours × $85 per hour = $1,360 | Up to $18,074 | Up to $19,434.

We estimate that it would take about 1 work-hour per product to comply with the reporting requirement in this AD. The average labor rate is $85 per hour. Based on these figures, we estimate the cost of reporting the inspection results on U.S. operators to be $85 per product.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-11-07 Saab AB, Saab Aeronautics (Formerly Known as Saab AB, Saab Aerosystems): Amendment 39-19295; Docket No. FAA-2018-0450; Product Identifier 2018-NM-073-AD.

(a) Effective Date

This AD becomes effective June 13, 2018.

(b) Affected ADs

None.

(c) Applicability

This AD applies to Saab AB, Saab Aeronautics (formerly known as Saab AB, Saab Aerosystems) Model SAAB 2000 airplanes, certificated in any category, all manufacturer serial numbers.

(d) Subject

Air Transport Association (ATA) of America Code 27, Flight controls.

(e) Reason

This AD was prompted by the identification of a manufacturing defect on certain aileron bellcrank support brackets that resulted in the material thickness of the affected lug attaching the support bracket to the rear spar of the wing to be insufficient. We are issuing this AD to detect and correct the defect of the aileron bellcrank support bracket, which, in the event of an aileron jam, could lead to failure of the support bracket and result in reduced controllability of the airplane.

(f) Compliance

Comply with this AD within the compliance times specified, unless already done.

(g) Definitions

(1) For the purposes of this AD, affected support brackets are aileron bellcrank support brackets, part number (P/N) 7327993-813 and P/N 7327993-814, for which it has been determined that the affected lug attaching the support bracket to the rear spar of the wing has a thickness of less than 2.75 mm (0.108 in.), as specified in Saab Service Bulletin 2000-27-056, dated April 18, 2018.

(2) For the purposes of this AD, serviceable support brackets are aileron bellcrank support brackets, P/N 7327993-813 and P/N 7327993-814, for which it has been determined that the affected lug attaching the support bracket to the rear spar of the wing has a thickness of 2.75 mm (0.108 in.) or more, as specified in Saab Service Bulletin 2000-27-056, dated April 18, 2018.

(h) One-Time Inspection

Within 100 flight cycles or 30 days, whichever occurs first after the effective date of this AD, accomplish a detailed visual inspection for cracks, corrosion, and damage (including missing paint) of the affected lug and the adjacent area of the aileron bellcrank support brackets installed on the left hand (LH) and right hand (RH) wing, and measure the thickness of the affected lug attaching the support bracket to the rear spar of the wing, in accordance with the Accomplishment Instructions of Saab Service Bulletin 2000-27-056, dated April 18, 2018.

(i) Repetitive Inspections

If, during the measurement required by paragraph (h) of this AD, it is determined that the affected lug attaching the aileron bellcrank support bracket to the rear spar of the wing has a thickness of less than 2.75 mm (0.108 in.), at intervals not to exceed 100 flight cycles, accomplish a detailed visual inspection for cracks, corrosion, and damage (including missing paint) of that affected support bracket in accordance with the Accomplishment Instructions of Saab Service Bulletin 2000-27-056, dated April 18, 2018. Accomplishing the replacement specified in paragraph (k) of this AD terminates the repetitive inspections required by this paragraph for that bracket.

(j) Corrective Actions

If, during any inspection required by paragraph (h) or (i) of this AD, any crack, corrosion, or damage (including missing paint) is found, before further flight, obtain corrective actions instructions approved by the Manager, International Section, Transport Standards Branch, FAA; or the European Aviation Safety Agency (EASA); or Saab AB, Saab Aeronautics' EASA Design Organization Approval (DOA). If approved by the DOA, the approval must include the DOA-authorized signature. Accomplish the corrective actions within the compliance time specified therein. If no compliance time is specified in the corrective actions instructions, accomplish the corrective action before further flight.

(k) Optional Terminating Action

Replacing each affected support bracket with a serviceable support bracket, in accordance with the Accomplishment Instructions of Saab Service Bulletin 2000-27-056, dated April 18, 2018, terminates the inspections required by paragraph (i) of this AD for that airplane.

(l) Reporting Requirement

Within 15 days after the measurement as required by paragraph (h) of this AD, or within 15 days after the effective date of this AD, whichever occurs later, report the results to Saab AB, Saab Aeronautics in accordance with the instruction provided in Figure 1, “Aileron Bellcrank Support Fitting—Inspection,” of Saab Service Bulletin 2000-27-056, dated April 18, 2018.

(m) Parts Installation Limitation

As of the effective date of this AD, it is allowed to install on any airplane an aileron bellcrank support bracket P/N 7327993-813 or P/N 7327993-814, provided it is a serviceable support bracket.

(n) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (o)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the EASA; or Saab AB, Saab Aeronautics' EASA DOA. If approved by the DOA, the approval must include the DOA-authorized signature.

(o) Related Information

(1) Refer to Mandatory Continuing Airworthiness Information (MCAI) Airworthiness Directive 2018-0103, dated April 30, 2018, for related information. You may examine the MCAI on the internet at http://www.regulations.gov by searching for and locating Docket No. FAA-2018-0450.

(2) For more information about this AD, contact Shahram Daneshmandi, Aerospace Engineer, International Section, Transport Standards Branch, FAA, 2200 South 216th St., Des Moines, WA 98198; telephone and fax 206-231-3220.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Saab Service Bulletin 2000-27-056, dated April 18, 2018.

(ii) Reserved.

(3) For service information identified in this AD, contact Saab AB, Saab Aeronautics, SE 581 88, Linköping, Sweden; telephone +46 13 18 5591; fax +46 13 18 4874; email saab2000techsupport@saabgroup.com; internet http://www.saabgroup.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on May 14, 2018.
Michael Kaszycki,
Acting Director, System Oversight Division, Aircraft Certification Service.

[FR Doc. 2018-11267 Filed 5-25-18; 8:45 am]

BILLING CODE 4910-13-P